DEPARTMENT OF HEALTH AND HUMAN SERVICES

Centers for Disease Control and Prevention

[30Day-23-0841]

Agency Forms Undergoing Paperwork Reduction Act Review

In accordance with the Paperwork Reduction Act of 1995, the Centers for Disease Control and Prevention (CDC) has submitted the information collection request titled “Management Information System for Comprehensive Cancer Control Programs” to the Office of Management and Budget (OMB) for review and approval. CDC previously published a “Proposed Data Collection Submitted for Public Comment and Recommendations” notice on May 19, 2023 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Management Information System for Comprehensive Cancer Control Programs (OMB Control No. 0920-0841, Exp. 7/31/2023)—Revision—National Center of Chronic Disease Prevention and Health Promotion (NCCDPHP), Centers for Disease Control and Prevention (CDC).

Background and Brief Description

This statement supports the request for clearance of a Revision to National Comprehensive Cancer Control Program (NCCCP) (Management Information System for Comprehensive Cancer Control Programs, OMB Control No. 0920-0841, Exp. 7/31/2023) to continue electronic data collection of information about the NCCCP, funded by the Comprehensive Cancer Control Branch of the Centers for Disease Control and Prevention (CDC). OMB approval is requested for three years. This information collection is authorized by the Public Health Service Act, section 301, 241(a)

The Comprehensive Cancer Control Branch administers the NCCCP, which provides funding to 66 state health departments and the District of Columbia, US Territories and Freely Associated States, Federally Recognized American Indian Tribes, Tribal Organizations, Alaska Native Organizations, and Urban Indian Organization; or their Bona Fide Agents, to design, implement, and evaluate comprehensive cancer control plans to reduce the burden of cancer locally. Support for these programs is a cornerstone of CDC efforts to reduce the burden of cancer throughout the nation. Awards to individual applicants are made for a five-year program period. Continuation awards for subsequent budget periods are made on the basis of satisfactory progress in achieving both national and program-specific goals and objectives, as well as the availability of funds.

In 2022, 66 recipients were selected for funding for DP22-2202 (“Cancer Prevention and Control Programs for State, Territorial, and Tribal Organizations”) to implement a program to support cancer coalition efforts that leverage resources to plan and implement evidence-based strategies to promote the primary prevention of cancer; support cancer early detection efforts, address the needs of cancer survivors; and promote health equity. Consistent with programmatic changes, the proposed data collection plan for DP22-2202 has been redesigned to increase efficiency by updating existing and adding new data collection instruments, which were previously approved under the current OMB package (OMB Control No. 0920-0841) and Generic package (OMB Control No. 0920-0879). This revised data collection will allow CDC to continue providing routine feedback to recipients based on their data submissions, tailor technical assistance as needed, support program planning, and assess program outcomes. Specifically, in this Revision request, CDC seeks OMB approval to use an interview and web-based survey to collect, store, retrieve, share, and report accurate and timely information to monitor and evaluate recipient performance. CDC requests OMB approval for an estimated 342 annual burden hours. There are no costs to respondents other than their time.

Estimated Annualized Burden Hours
Type of respondents | Form name | Number of respondents | Number of responses per respondent | Average burden per response (in hours)
Program Director for State-, Tribal- or Territorial-based Cancer Prevention and Control Program | NCCCP Annual Key Informant Interview | 54 | 3 | 90/60
Program Director for State-, Tribal- or Territorial-based Cancer Prevention and Control Program | NCCCP Survey | 132 | 1 | 45/60

Jeffrey M. Zirger,
Lead, Information Collection Review Office, Office of Scientific Integrity, Office of Science, Centers for Disease Control and Prevention.

[FR Doc. 2023-15544 Filed 7-20-23; 8:45 am]

BILLING CODE 4163-18-P